DEPARTMENT OF COMMERCE

National Oceanic and Atmospheric Administration

[I.D. 083005D]

Mid-Atlantic Fishery Management Council (MAFMC); Public Meeting

AGENCY: National Marine Fisheries Service (NMFS), National Oceanic and Atmospheric Administration (NOAA), Commerce.

ACTION: Notice of public meeting.

SUMMARY: The Mid-Atlantic and New England Fishery Management Councils' Spiny Dogfish Monitoring Committee will hold a public meeting.

DATES: The meeting will be held on Thursday, September 22, 2005, from 10 a.m. to 4 p.m.

ADDRESSES: The meeting will be held at the Crowne Plaza at the Crossings, 801 Greenwich Ave, Warwick, RI 02886; telephone: (401) 732-6000.

Council address: Mid-Atlantic Fishery Management Council, 300 S. New Street, Room 2115, Dover, DE 19904.

FOR FURTHER INFORMATION CONTACT: Daniel T. Furlong, Executive Director, Mid-Atlantic Fishery Management Council, 300 S. New Street, Room 2115, Dover, DE 19904; telephone: 302-674-2331 ext. 19.

SUPPLEMENTARY INFORMATION: The purpose of this meeting is to develop recommendations regarding management measures, including quotas and trip limits, for the Councils for the 2006/07 fishing year specifications for spiny dogfish.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Jan Saunders at the Mid-Atlantic Council Office (302) 674-2331 ext: 18) at least 5 days prior to the meeting date.

Dated: September 2, 2005.
Emily Menashes,
Acting Director, Office of Sustainable Fisheries, National Marine Fisheries Service.

[FR Doc. E5-4887 Filed 9-7-05; 8:45 am]

BILLING CODE 3510-22-S